DEPARTMENT OF HEALTH AND HUMAN SERVICES

National Institutes of Health

Center for Scientific Review; Amended Notice of Meeting

Notice is hereby given of a change in the meeting of the Cancer Biomarkers Study Section, June 17, 2019, 8:00 p.m. to June 18, 2019, 5:00 p.m., which was published in the Federal Register on April 22, 2019, 84 FR 16683.

The meeting time is being changed to 8:00 a.m. instead of 8:00 p.m. Meeting dates remain the same. The meeting is closed to the public.

Dated: June 7, 2019.
Melanie J. Pantoja,
Program Analyst, Office of Federal Advisory Committee Policy.

[FR Doc. 2019-12366 Filed 6-11-19; 8:45 am]

BILLING CODE 4140-01-P